SMALL BUSINESS ADMINISTRATION

[License No. 03/03-0254]

Renovus Capital Partners, L.P.; Notice Seeking Exemption Under the Small Business Investment Act, Conflicts of Interest

Notice is hereby given that Renovus Capital Partners, L.P., 460 East Swedesford Road, Suite 2050, Wayne, PA 19087, a Federal Licensee under the Small Business Investment Act of 1958, as amended (“the Act”), in connection with the financing of a small concern, has sought an exemption under Section 312 of the Act and Section 107.730, Financings which Constitute Conflicts of Interest of the Small Business Administration (“SBA”) Rules and Regulations (13 CFR 107.730).

The financing is brought within the purview of § 107.730(a) of the SBIC Regulations because Renovus Capital Partners, L.P. proposes to seeks to merge two portfolio companies Prime Technology Group, LLC, 1006 W 9th Ave., Suite 150, King of Prussia, PA 19406 and Image Process Design, LLC, 36800 Woodward Ave., Suite 300, Bloomfield Hills, MI 48304. Both companies are Associates of Renovus Capital Partners, L.P. due to its majority ownership of each company.

Notice is hereby given that any interested person may submit written comments on the transaction, within fifteen days of the date of this publication, to the Associate Administrator for Investment, U.S. Small Business Administration, 409 Third Street SW, Washington, DC 20416.

A. Joseph Shepard,
Associate Administrator, Office of Investment and Innovation.

[FR Doc. 2019-15842 Filed 7-24-19; 8:45 am]

BILLING CODE P